OFFICE OF GOVERNMENT ETHICS

Privacy Act of 1974; Amendment to System of Records

AGENCY: Office of Government Ethics (OGE).

ACTION: Notice of Modification of Routine Use (l) in OGE/GOVT-1 System of Records.

SUMMARY: The U.S. Office of Government Ethics (OGE) proposes to modify Routine Use (l) to OGE/GOVT-1, Executive Branch Personnel Public Financial Disclosure Reports and Other Name-Retrieved Ethics Program Records. This modification to Routine Use (l) is needed to implement provisions of the Stop Trading on Congressional Knowledge Act of 2012 (Stock Act), Public Law 112-105 (2012), which amend the Ethics in Government Act of 1978, 5 U.S.C. App. This action is necessary to comply with the requirements of the Privacy Act to publish in the Federal Register notice of the existence and character of records maintained by the agency (5 U.S.C. 552a(e)(4)). OGE last published OGE/GOVT-1 in 68 FR 3097-3109 (January 22, 2003), as corrected at 68 FR 24744 (May 8, 2003). An additional routine use was added to OGE/GOVT-1 in 76 FR 24489 (May 2, 2011).

DATES: This action will be effective without further notice on August 30, 2012 unless comments received before this date would result in a contrary determination.

ADDRESSES: You may submit comments to OGE on this Privacy Act Notice by any of the following methods:

Email: usoge@oge.gov (Include reference to “Privacy Act Modified Routine Use Comment” in the subject line of the message).

Fax: 202-482-9237, Attention: Kerri A. Cox, Privacy Officer.

Mail, Hand Delivery/Courier: Office of Government Ethics, Suite 500, 1201 New York Avenue NW., Washington, DC 20005-3917, Attention: Kerri A. Cox, Privacy Officer.

FOR FURTHER INFORMATION CONTACT: Ms. Cox at the Office of Government Ethics; telephone: 202-482-9312; TTY: 800-877-8339; Fax: 202-482-9237; Email: kacox@oge.gov.

SUPPLEMENTARY INFORMATION: In accordance with the Privacy Act of 1974, 5-U.S.C. 552(a), this document provides public notice that the OGE is proposing to amend the OGE/GOVT-1, Executive Branch Personnel Public Financial Disclosure Reports and Other Name-Retrieved Ethics Program Records. The amendments will (1) update the authority for maintaining the system by adding the citation to the Stock Act; and (2) modify Routine Use (l) to explain that certain records will be automatically posted to official executive branch agency Web sites and/or the OGE Web site.

The system report, as required by 5 U.S.C. 552a(r), has been submitted to the Committee on Homeland Security and Governmental Affairs of the United States Senate, the Committee on Oversight and Government Reform of the House of Representatives and the Office of Management and Budget.

Routine Use (l.)

(l.) to disclose on the OGE Web site and to otherwise disclose to any person, including other departments and agencies: any written ethics agreements filed with the Office of Government Ethics, pursuant to 5 CFR 2634.803, by an individual nominated by the President to a position requiring Senate confirmation when the position also requires the individual to file a public financial disclosure report; and any public filer reports required to be filed by reason of Federal employment or by the president or vice president.

Approved: July 25, 2012.
Don W. Fox,
Acting Director, Office of Government Ethics.

[FR Doc. 2012-18658 Filed 7-30-12; 8:45 am]

BILLING CODE 6345-03-P